DEPARTMENT OF DEFENSE

Department of the Air Force

Notice of Intent To Prepare an Environmental Impact Statement for Regional Special Use Airspace Optimization To Support Air Force Missions in Arizona

AGENCY: Department of the Air Force, Federal Aviation Administration, Department of Defense.

ACTION: Notice of intent.

SUMMARY: The Department of the Air Force (DAF) is issuing this Notice of Intent (NOI) to advise the public of its intent to prepare an Environmental Impact Statement (EIS) to assess the potential environmental consequences associated with optimizing the Special Use Airspace (SUA) managed by the DAF to support aircrews stationed at Davis-Monthan Air Force Base (AFB), Luke AFB, and Morris Air National Guard Base ([ANGB] located at Tucson International Airport) in Arizona and to request comments on potential alternatives and impacts, and identification of any relevant information, studies, or analyses of any kind concerning impacts affecting the quality of the human environment.

DATES: This NOI begins the public scoping process for identifying issues and potential alternatives for consideration in the EIS. Notifications are being concurrently published in local newspapers within the potentially affected localities. Scoping comments are requested by March 4, 2022 to ensure full consideration in the Draft EIS in accordance with 40 CFR 1501.9. In-person scoping meetings will be held at the dates and locations below. All meetings will be open-house style from 5:00 p.m. to 7:00 p.m. (Local). There will not be a formal presentation, please attend at your convenience. Persons with hearing impairments should notify the DAF at least 7 days in advance of the meeting dates to ensure that sign language assistance can be available. Masks worn over the nose and mouth and social distancing are required at all in-person meetings. Spanish interpreters will be available at scoping meetings.

• February 7, 2022. Sonoran Desert Inn & Conference Center, 55 South Orilla Avenue, Ajo, Arizona 85321.

• February 8, 2022. Superior Town Hall, 199 N Lobb Avenue, Superior, Arizona 85173.

• February 9, 2022. Bagdad Event Center, 121 Main Street, Bagdad, Arizona 86321.

• February 10, 2022. Congress Fire Department, 26733 Santa Fe Road, Congress, Arizona 85332.

• February 22, 2022. Village Hall, 15 Jake Scott Street, Reserve, New Mexico 87830.

• February 23, 2022. Clifton Community Center, 100 North Coronado Blvd., Clifton, Arizona 85533.

• February 24, 2022. Animas High School, 1 Panther Blvd., Animas, New Mexico 88020.

In addition to the in-person meetings, the project website www.ArizonaRegionalAirspaceEIS.com provides a virtual presentation of the meeting materials for those persons that do not wish to attend or are unable to attend an in-person meeting. All the handout(s) and displays for the in-person meetings are available on the website.

The EIS is still in the early planning stages and the schedule is subject to change. The schedule will be updated throughout the EIS process on the project website. Major milestone dates are as follows:

• Draft EIS and Notice of Availability (NOA) publication, Fall 2023

• Draft EIS Public Comment Period and Hearing, Fall 2023

• Final EIS and NOA publication, Summer 2024

• Record of Decision signature, Summer/Fall 2024

ADDRESSES: For questions regarding the Proposed Action or EIS development, or to request sign language assistance at the in-person scoping meetings, contact Grace Keesling, at grace.keesling.1@us.af.mil or (210) 925-4534. Comments may be submitted through the project website www.ArizonaRegionalAirspaceEIS.com, by mailing to Arizona Regional Airspace EIS, c/o Cardno, 501 Butler Farm Rd., Suite H, Hampton, VA 23666, or in person at the scoping meetings.

SUPPLEMENTARY INFORMATION: The Air Force utilizes portions of the National Airspace System (NAS) for aerial training and test activities known as Special Use Airspace (SUA). As a specific type of SUA, Military Operations Areas (MOAs) are specific airspace, defined by vertical and lateral limits, established for the purpose of separating certain military flight activates from other civil and commercial air traffic. Air Force aircrews stationed in Arizona are continually challenged to meet critical training requirements within existing MOAs established decades ago. The MOAs that are currently used for Air Force training in Arizona, specifically low altitude airspace and airspace that supports supersonic operations at low altitude, have become saturated with aircraft. While the Air Force manages an extensive network of valuable SUA in the region, including the restricted areas associated with the Barry M. Goldwater Range, the volume and attributes associated with the individual MOAs are insufficient to meet the current training requirements. The Air Force is proposing a regional approach that aims at optimizing the existing training airspace to meet current and future mission requirements of multiple users. The airspace proposed for optimization includes the following MOAs: Tombstone, Outlaw, Jackal, Reserve, Morenci, Bagdad, Gladden, Sells, Ruby, and Fuzzy. These MOAs overlie land located throughout southern Arizona and a small portion of western New Mexico.

The purpose of the Proposed Action is to optimize existing Air Force SUA to address the existing and future training deficiencies of aircrews stationed at Davis-Monthan AFB, Luke AFB, and Morris ANGB due to existing airspace limitations. The need for the Proposed Action is driven by two primary factors: The need for aircrews to be able to conduct flight training near their home base; and the need to conduct required training to ensure readiness and increase survivability. As currently configured, the identified MOAs do not provide the appropriate altitudes (down to 500 feet above ground level [AGL] and lower), terrain variety, and attributes (ability to fly supersonic at lower altitude and use of chaff and flares) to support required training.

The Proposed Action is to modify existing Air Force MOAs to address existing and future training deficiencies. The Proposed Action includes changing published times of use; adjusting the horizontal dimensions of some airspace; lowering the floor of some airspace to allow for low-altitude training; and adjusting airspace attributes to allow for supersonic speed at lower altitude and use of chaff and flares. The Proposed Action does not include any changes at the installations (personnel, infrastructure, aircraft inventory, or airfield operations), ground disturbance beneath the MOAs, or weapons deployment.

Three preliminary action alternatives that meet the purpose and need for the Proposed Action have been developed. Comments received during scoping may result in changes or additions to these alternatives. Additionally, the No Action Alternative (Alternative 1), whereby the proposed modifications of the training airspace would not occur, will be evaluated to provide a benchmark that will enable Air Force decision makers to compare the magnitude of the environmental effects of the Proposed Action and any reasonable alternatives.

Alternative 2 (Proposed Action) would optimize the existing Air Force managed airspace, including the following changes to the times of use, horizontal and vertical dimensions, and attributes: Published times of use for all MOAs would be modified to provide consistency across the airspace; Tombstone A, B, and C would be combined and the northern boundary of the MOA and associated Tombstone Air Traffic Control Assigned Airspace (ATCAA) would be expanded; an exclusion zone would be established below 13,000 feet above mean sea level (MSL) surrounding Bisbee Douglas International Airport; the floor of Tombstone MOA would be lowered to 100 AGL from the existing 500 feet AGL; the floors of Outlaw and Jackal MOAs would be lowered to 500 feet AGL from the existing 3,000 feet AGL; the floors of the Bagdad and Gladden MOAs would be lowered to 500 feet AGL from the existing 5,000 feet AGL; use of chaff would be authorized in Tombstone MOA; the minimum flare release altitude in Tombstone, Gladden, and Bagdad MOAs would be lowered to 2,000 feet AGL from 5,000 feet AGL; the minimum flare release altitude in Outlaw and Jackal MOAs would be lowered to 2,000 feet AGL from 3,000 feet AGL; and the authorization for supersonic flight would be lowered to 5,000 feet AGL from the existing 30,000 feet MSL in Tombstone, Outlaw, Jackal, Morenci, and Reserve MOAs.

Alternative 3 would include those modifications proposed for Alternative 2 except that the northern boundary of the Tombstone MOA/ATCAA would not be expanded. Additionally, to increase the volume of airspace available to support Davis-Monthan AFB, the floor of Jackal MOA would also be lowered to 100 feet AGL from the existing 3,000 feet AGL.

Alternative 4 would include those modifications proposed in Alternative 2 except supersonic flight would be authorized down to 10,000 feet AGL in the Tombstone, Outlaw, Jackal, Morenci and Reserve MOAs (vs 5,000 feet AGL in Alternative 2). While this option would not fully optimize the airspace for supersonic operations, lowering the authorized altitude in the MOAs would improve the current capabilities.

Based on previous NEPA actions in the region and familiarity with the affected environment, the following is a preliminary list of issues and concerns that will be the focus in the EIS: Noise and sonic boom impacts to domestic animals, wildlife, special status species, children, quality of life, property values, homes, and cultural resources; effects to cultural resources and Native American tribes; effects to Environmental Justice populations; aircraft safety and impacts to civilian pilots (crop dusting, predator control, and cattle management) and commercial operations; air quality impacts to wildlife and public; effects from use of chaff and flares, specifically fire risk; and effects to special use land management areas such as wilderness areas, national wildlife refuges, and national parks/monuments.

Scoping and Agency Coordination: To effectively define the full range of issues and alternatives to be evaluated in the EIS, the Air Force is soliciting comments from interested local, state and federal elected officials and agencies, Tribes, as well as interested members of the public and others. The DAF is requesting comments concerning the proposed SUA optimization, feasible alternatives, possible measures to mitigate, minimize and/or avoid adverse environmental impacts, and any other information relevant to the Proposed Action and any reasonable alternatives.

The U.S. Fish and Wildlife Service, State Historic Preservation Offices for Arizona and New Mexico, and tribes with interest in land beneath the airspace are being consulted to ensure compliance with the Endangered Species Act and National Historic Preservation Act. The Federal Aviation Administration (FAA) has agreed to be a Cooperating Agency for this action. The FAA would update aeronautical charts to reflect any modifications to existing airspace that result from this proposal and published in FAA Order JO 7400.10(C), Special Use Airspace (http://www.faa.gov/air_traffic/publications/).

Adriane Paris,
Air Force Federal Register Liaison Officer.

[FR Doc. 2022-00749 Filed 1-14-22; 8:45 am]

BILLING CODE 5001-10-P